DEPARTMENT OF THE INTERIOR

Fish and Wildlife Service

50 CFR Part 17

[Docket No. FWS-R9-IA-2011-0027; 96300-1671-0000-R4]

RIN 1018-AW81

Endangered and Threatened Wildlife and Plants; U.S. Captive-Bred Inter-subspecific Crossed or Generic Tigers

AGENCY: Fish and Wildlife Service, Interior.

ACTION: Proposed rule; extension of comment period.

SUMMARY: We, the U.S. Fish and Wildlife Service (Service), announce the extension of the public comment period on the proposed rule to amend the regulations that implement the Endangered Species Act (Act) by removing inter-subspecific crossed or generic tigers (i.e., specimens not identified or identifiable as members of the Bengal, Sumatran, Siberian, or Indochinese subspecies) from the list of species that are exempt from registration under the captive-bred wildlife regulations. We are extending the comment period by 30 days to allow all interested parties an opportunity to comment on the proposed rule.

DATES: We will consider comments received on or before October 21, 2011.

ADDRESSES: You may submit comments by one of the following methods:

Electronically: Go to the Federal eRulemaking Portal: http://www.regulations.gov. In the Enter Keyword or ID box, enter FWS-R9-IA-2011-0027, which is the docket number for this rulemaking. Then, in the Search panel at the top of the screen, under the Document Type heading, check the box next to Proposed Rules to locate this document. You may submit a comment by clicking on “Send a Comment.”

By hard copy: Submit by U.S. mail or hand-delivery to: Public Comments Processing, Attn: FWS-R9-IA-2011-0027; Division of Policy and Directives Management; U.S. Fish and Wildlife Service; 4401 N. Fairfax Drive, MS 2042-PDM; Arlington, VA 22203.

We will not accept e-mails or faxes. We will post all comments on http://www.regulations.gov. This generally means that we will post any personal information you provide us (see the Public Comments section at the end of SUPPLEMENTARY INFORMATION for further information about submitting comments).

FOR FURTHER INFORMATION CONTACT: Timothy J. Van Norman, Chief, Branch of Permits, Division of Management Authority, U.S. Fish and Wildlife Service, 4401 N. Fairfax Drive, Suite 212, Arlington, VA 22203; telephone 703-358-21040; fax 703-358-2281. If you use a telecommunications devise for the deaf (TDD), call the Federal Information Relay Service (FIRS) at 800-877-8339.

SUPPLEMENTARY INFORMATION:

Background

On August 22, 2011, we published a proposed rule (76 FR 52297) to amend the Captive-bred Wildlife (CBW) regulations that implement the Act by removing inter-subspecific crossed or generic tiger (Panthera tigris) (i.e., specimens not identified or identifiable as members of Bengal, Sumatran, Siberian, or Indochinese subspecies (Panthera tigris tigris, P. t. sumatrae, P. t. altaica, and P. t. corbetti, respectively) from paragraph (g)(6) of 50 CFR 17.21. This action would eliminate the exemption from registering and reporting under the CBW regulations by persons who want to conduct otherwise-prohibited activities under the Act with live inter-subspecific crossed or generic tigers born in the United States. Inter-subspecific crossed or generic tigers remain listed as endangered under the Act, and a person would need to qualify for an exemption or obtain an authorization under the remaining statutory and regulatory requirements to conduct any prohibited activities.

The comment period was opened for 30 days from August 22, 2011, to September 21, 2011. We have received several requests to extend the comment period in order to give all interested parties an increased opportunity to fully research this issue and provide more substantial comments. Accordingly, we are extending the comment period by 30 days. Our August 22, 2011, proposed rule (79 FR 52297) specifies the information that we seek from the public. If you submitted comments previously, you do not need to resubmit them because we have already incorporated them into the public record and will fully consider them in preparation of the final rule.

Public Comments

You may submit your comments and materials concerning this proposed rule by one of the methods listed in ADDRESSES. We will not accept comments sent by e-mail or fax or to an address not listed in ADDRESSES.

We will post your entire comment—including your personal identifying information—on http://www.regulations.gov. If you provide personal identifying information in your written comments, you may request at the top of your document that we withhold this information from public review. However, we cannot guarantee that we will be able to do so.

Comments and materials we receive, as well as supporting documentation we used in preparing this proposed rule, will be available for public inspection on http://www.regulations.gov, or by appointment, during normal business hours, at the U.S. Fish and Wildlife Service; Division of Management Authority; 4401 N. Fairfax Drive, Suite 212; Arlington, VA 22203; telephone, (703) 358-2093.

Authority: 16 U.S.C. 1361-1407; 16 U.S.C. 1531-1544; 16 U.S.C. 4201-4245; Pub. L. 99-625, 100 Stat. 3500; unless otherwise noted.

Dated: September 15, 2011.
Rachel Jacobson,
Assistant Secretary for Fish and Wildlife and Parks.

[FR Doc. 2011-24339 Filed 9-20-11; 8:45 am]

BILLING CODE 4310-55-P